DEPARTMENT OF HEALTH AND HUMAN SERVICES

Food and Drug Administration

[Docket No. 02N-0037]

Public Informational Meeting on Antimicrobial Resistance

AGENCY: Food and Drug Administration, HHS.

ACTION: Notice of meeting; request for comments.

SUMMARY: The Food and Drug Administration (FDA) is announcing the following meeting: “Public Informational Meeting on Antimicrobial Resistance.” The purpose of this public meeting is to provide the general public the opportunity to hear speakers from the agency, industry, and others to provide information on the issue of antimicrobial resistance so the public can fully participate in the public dialogue about the issue. Attendees will be invited to ask questions during the meeting.

Date and Time: The meeting will be held on April 26, 2002, from 9:30 a.m. to 4:30 p.m. Walk-in registration will begin at 9 a.m. You may submit written or electronic comments at any time, but in order for your comments to be included with others in conjunction with this meeting, please submit comments no later than 180 days after the meeting. Please include the Docket No. 02N-0037 on your comments.

Addresses: The meeting will be held at the Capital Hilton Hotel, Congressional Room, 1001 16th St. (16th and K Sts.), Washington, DC, 202-393-1000. Submit written comments to the Dockets Management Branch (HFA-305), Food and Drug Administration, 5630 Fishers Lane, rm. 1061, Rockville, MD 20852. Submit electronic comments to http://www.fda.gov/dockets/ecomments. Comments should be identified with the full title and the Docket No. 02N-0037 on your comments.

For General Information Contact: Vash Klein, Center for Veterinary Medicine (CVM) (HFV-12), Food and Drug Administration, 7519 Standish Pl., Rockville, MD 20855, e-mail: cvmmeet@cvm.fda.gov.

For Information About Registration Contact: Ben Horsley, The Shipley Group, at 888-270-2157, FAX 888-270-2158.

Registration: Registration is required. There is no registration fee for the meeting. Limited space is available, and early registration is encouraged. Information about the meeting and the registration form are available on the Internet at www.fda.gov/cvm, click on Antimicrobial Resistance, then scroll down to PUBLIC MEETINGS, April 26, 2002 — Consumer Meeting on Antimicrobial Resistance. Please mail or fax the registration form to: FDA/CVM Enrollments —The Shipley Group, Inc., 1584 South 500 West, suite 201, Woods Cross, UT 84087; Ben Horsley at 888-270-2157 or 801- 298-7800, FAX 888-270-2158 or 801-298-7820. Additional information about the meeting and the agenda will be available on the Internet (www.fda.gov/cvm) before the meeting.

Oral Presentations: Please submit requests for oral presentations by April 22, 2002, to FDA/CVM, Attn: Consumer Meeting, Docket No. 02N-0037, 7500 Standish Pl., (HFV-12), rm. 3503, Rockville, MD 20855. All presentations may be provided on Powerpoint (disk or CD, or e-mailed in advance to cvmmeet@cvm.fda.gov). No zip disks, slide presentations, or overheads can be accommodated.

If you need special accommodations due to a disability, please contact Vash Klein at least 7 days in advance.

Dated: April 4, 2002.
Margaret M. Dotzel,
Associate Commissioner for Policy.

[FR Doc. 02-8567 Filed 4-5-02; 8:45 am]

BILLING CODE 4160-01-S